FEDERAL MARITIME COMMISSION

Sunshine Act Meeting

TIME AND DATE: April 14, 2021; 10:00 a.m.

PLACE: This meeting will be held by video-conference only.

STATUS: This meeting will be closed to the public.

MATTERS TO BE CONSIDERED: General Prohibitions in the Shipping Act and Pending Investigations.

CONTACT PERSON FOR MORE INFORMATION: Rachel Dickon, Secretary (202) 523-5725.

Rachel Dickon,
Secretary.

[FR Doc. 2021-07486 Filed 4-8-21; 11:15 am]

BILLING CODE 6730-02-P